DEPARTMENT OF AGRICULTURE

Codex Office

Codex Alimentarius Commission: Meeting of the Codex Committee on Contaminants in Foods

AGENCY: U.S. Codex Office, USDA.

ACTION: Notice of public meeting and request for comments.

SUMMARY: The U.S Codex Office is sponsoring a public meeting on April 12, 2021. The objective of the public meeting is to provide information and receive public comments on agenda items and draft United States (U.S.) positions to be discussed at the 14th Session of the Codex Committee on Contaminants in Foods (CCCF) of the Codex Alimentarius Commission. The U.S. Manager for Codex Alimentarius and the Acting Deputy Under Secretary for Trade and Foreign Agricultural Affairs recognize the importance of providing interested parties the opportunity to obtain background information on the 14th Session of the CCCF and to address items on the agenda.

DATES: The public meeting is scheduled for April 12, 2021 from 1:00-4:00 p.m. EDT.

ADDRESSES: The public meeting will take place virtually. Documents related to the 14th Session of the CCCF will be accessible via the internet at the following address: http://ww.fao.org/fao-who-codexalimentarius/meetings/detail/en/?meeting=CCCF&session=14.

Dr. Lauren Posnick Robin, U.S. Delegate to the 14th Session of the CCCF, invites U.S. interested parties to submit their comments electronically to Dr. Henry Kim at the following email address: henry.kim@fda.hhs.gov.

Registration: Attendees may register to attend the virtual public meeting here: https://fda.zoomgov.com/meeting/register/vJIsce6tpz0uGCiuxe2thMQL6-nruzmbFdk or by emailing henry.kim@fda.hhs.gov by April 5, 2021.

For Further Information about the 14th Session of the CCCF and the Public Meeting, contact Henry Kim, Ph.D., FDA, at henry.kim@fda.hhs.gov, or the U.S. Codex office at uscodex@usda.gov, (202) 720-7760.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference of the CCCF are:

(a) To establish or endorse permitted maximum levels or guidelines levels for contaminants and naturally occurring toxicants in food and feed;

(b) to prepare priority lists of contaminants and naturally occurring toxicants for risk assessment by the Joint FAO/WHO Expert Committee on Food Additives;

(c) to consider methods of analysis and sampling for the determination of contaminants and naturally occurring toxicants in food and feed;

(d) to consider and elaborate standards or codes of practice for related subjects; and

(e) to consider other matters assigned to it by the Commission in relation to contaminants and naturally occurring toxicants in food and feed.

The CCCF is chaired by the Netherlands. The United States attends the CCCF as a member country of Codex.

Issues To Be Discussed at the Public Meeting

The following items on the Agenda for the 14th Session of the CCCF will be discussed during the public meeting:

• Matters referred to the Committee by the Codex Alimentarius Commission and/or its subsidiary bodies

• Matters of interest arising from FAO and WHO including the Joint FAO/WHO Expert Committee on Food Additives

• Matters of interest arising from other international organizations

• Maximum level for cadmium in chocolates containing or declaring <30% total cocoa solids on a dry matter basis

• Maximum levels for cadmium in chocolates containing or declaring ≥30% to <50% total cocoa solids on a dry matter basis and cocoa powder (100% total cocoa solids on a dry matter basis)

• Code of practice for the prevention and reduction of cadmium contamination in cocoa beans

• Maximum levels for lead in certain food categories

• Revision of the Code of Practice for the prevention and reduction of lead contamination in foods

• Maximum levels for total aflatoxins in certain cereals and cereal-based products including foods for infants and young children

• Sampling plans and performance criteria for total aflatoxins in certain cereals and cereal-based products including foods for infants and young children

• Maximum level for total aflatoxins in ready-to-eat peanuts and associated sampling plan

• Maximum levels for total aflatoxins and ochratoxin A in nutmeg, dried chili and paprika, ginger, pepper and turmeric and associated sampling plans

• Methylmercury in fish:

○ Maximum levels for additional fish species

○ Sampling plans

○ Other risk management recommendations

• Hydrogen cyanide and mycotoxin contamination in cassava and cassava-based products

• Cadmium and lead in quinoa

• Radioactivity in feed and food (including drinking water) in normal circumstances

• Guidance on data analysis for development of maximum levels and for improved data collection

• Approach to identify the need for revision of standards and related texts developed by CCCF

• Forward work-plan for CCCF:

○ Review of staple food-contaminant combinations for future work of CCCF

○ Project plan for the evaluation of implementation of COPs of CCCF

• JECFA evaluations:

○ Priority list of contaminants for evaluation by JECFA

○ Follow-up work to the outcomes of JECFA evaluations

• Other business and future work

Public Meeting

At the April 12th public meeting, draft U.S. positions on the agenda items will be described and discussed, and attendees will have the opportunity to pose questions and offer comments. Written comments may be offered at the meeting or sent to Dr. Henry Kim at henry.kim@fda.hhs.gov. Written comments should state that they relate to activities of the 14th Session of the CCCF.

Additional Public Notification

Public awareness of all segments of rulemaking and policy development is important. Consequently, the U.S. Codex Office will announce this Federal Register publication on-line through the USDA web page located at: http://www.usda.gov/codex, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington, DC, on March 12, 2021.
Mary Lowe,
U.S. Manager for Codex Alimentarius.

[FR Doc. 2021-05640 Filed 3-17-21; 8:45 am]

BILLING CODE P